DEPARTMENT OF HEALTH AND HUMAN SERVICES

National Institutes of Health

Prospective Grant of Exclusive License: “Highly Elastic, Adjustable Helical Coil Stent”

AGENCY: National Institutes of Health, Public Health Service, DHHS.

ACTION: Notice.

SUMMARY: This is notice, in accordance with 35 U.S.C. 209(c)(1) and 37 CFR 4040.7(a)(1)(i), that the National Institutes of Health, Department of Health and Human Services, is contemplating the grant of an exclusive license to practice the inventions embodied in U.S. Patent Application 08/434,822 entitled, “Highly Elastic, Adjustable Helical Coil Stent” filed on May 4, 1995 and now U.S. Patent 6,027,516, which issued on February 22, 2000, to Vascular Architects, Inc. of Portola Valley, California. The patent rights in the invention have been assigned to the United States of America.

The prospective exclusive license territory will be worldwide and the field of use may be limited to all intraluminal uses.

DATES: Only written comments and or license applications which are received by the National Institutes of Health on or before October 10, 2000 will be considered.

ADDRESSES: Requests for copies of the patent, inquiries, comments and other materials relating to the contemplated exclusive license should be directed to: Girish C. Barua, Ph.D., Technology Licensing Specialist, Office of Technology Transfer, National Institutes of Health, 601 Executive Boulevard, Suite 325, Rockville, MD 20852-3804. Telephone: (301) 496-7056, ext. 263; Facsimile (301) 402-0220; E-mail BaruaG@od.nih.gov.

SUPPLEMENTARY INFORMATION: The U.S. Patent 6,027,516 claims an adjustable helical coil stent which can be contracted or expanded away from a catheter. The invention relates to medical devices used to hold open blood vessel, heart valves and other conduits of the human body. The helical coil can be contracted around a small diameter catheter for percultaneous insertion into the human body and then be remotely expanded to its original shape. The devise is especially useful for total and partial heart bypass procedures.

The prospective exclusive license will be royalty-bearing and will comply with the terms and conditions of 35 U.S.C. 209 and 37 CFR 404.7. The prospective exclusive license may be granted unless within ninety (90) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: June 30, 2000.
Jack Spiegel,
Director, Division of Technology, Development and Transfer, Office of Technology Transfer.

[FR Doc. 00-17531 Filed 7-11-00; 8:45 am]

BILLING CODE 4140-01-M